DEPARTMENT OF EDUCATION

Advisory Committee on Student Financial Assistance: Symposium

AGENCY: Advisory Committee on Student Financial Assistance, Education.

ACTION: Notice of an Opening Meeting.

SUMMARY: This notice sets forth the schedule and proposed agenda of a forthcoming symposium of the Advisory Committee on Student Financial Assistance (The Advisory Committee). This notice also describes the functions of the Advisory Committee. Notice of this symposium is required under section 10(a)(2) of the Federal Advisory Committee Act. This document is intended to notify the general public.

Date and Time: Monday, December 10, 2007, beginning at 9 a.m. and ending at approximately 5 p.m.

ADDRESSES: Holiday Inn on the Hill, Federal Ballroom, Lobby Level, 415 New Jersey Avenue, NW., Washington DC 20001.

FOR FURTHER INFORMATION CONTACT: Dr. Michelle Asha Cooper, Deputy Director, Advisory Committee on Student Financial Assistance, Capitol Place, 80 F Street, NW., Suite 413, Washington, DC 20202-7582, (202) 219-2099.

Individuals who use a telecommunications device for the deaf (TDD) may call the Federal Information Relay Service (FRS) at 1-800-8339.

SUPPLEMENTARY INFORMATION: The Advisory Committee on Student Financial Assistance is established under section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act, and to make recommendations that will result in the maintenance of access to postsecondary education for low- and middle-income students. In addition, Congress expanded the Advisory Committee's mission in the Higher Education Amendments of 1998 to include several important areas: Access, Title IV modernization, distance education, and early information and needs assessment. Specifically, the Advisory Committee is to review, monitor and evaluate the Department of Education's progress in these areas and report recommended improvements to Congress and the Secretary.

The Advisory Committee has scheduled this one-day symposium to discuss issues affecting community colleges, particularly as they relate to enrollment, persistence, and transfer between two- and four-year institutions.

The proposed agenda will include testimony and discussion by community college leaders, policymakers, researchers and practitioners on (a) best practices used to inform students about college and help students prepare to enroll in community colleges; (b) the types of programs and efforts needed to better ensure the persistence and degree completion of community college students; and (c) innovative programs that facilitate the transfer process from two-year to four-year institutions. The Advisory Committee will also conduct a public comment and discussion session.

Individuals who will need accommodations for a disability in order to attend the Symposium (i.e., interpreting services, assistive listening devices, and/or materials in alternative format) should notify the Advisory Committee no later than Thursday, November 29, 2007 by contacting Ms. Hope Gray at (202) 219-2099 or via e-mail at hope.gray@ed.gov. We will attempt to meet requests after this date, but cannot guarantee availability of the requested accommodation. The symposium site is accessible to individuals with disabilities.

The Advisory Committee invites the public to submit written comments on the agenda topics to the following e-mail address: ACSFA@ed.gov. Information regarding the topics covered at the symposium will also be available on the Advisory Committee's Web site, http://www.ed.gov/ACSFA. We must receive your comments on or before Friday, November 30, 2007 to be included in the symposium materials.

Space for the symposium is limited and you are encouraged to register early if you plan to attend. You may register by sending an e-mail to the following address: ACSFA@ed.gov or Tracy.Deanna.Jones@ed.gov. Please include your name, title, affiliation, complete address (including internet and e-mail address, if available), and telephone and fax numbers. If you are unable to register electronically, you may fax your registration information to the Advisory Committee staff office at (202) 219-3032. You may also contact the Advisory Committee staff directly at (202) 219-2099. The registration deadline is Friday, November 30, 2007.

Records are kept for Advisory Committee proceedings, and are available for inspection at the Office of the Advisory Committee on Student Financial Assistance, Capitol Place, 80 F Street, NW., Suite 413, Washington, DC from the hours of 9 a.m. to 5:30 p.m. Monday through Friday, except Federal holidays. Information regarding the Advisory Committee is available on the Committee's Web site, http://www.ed.gov/ACSFA.

Electronic Access to This Document: You may view this document, as well as other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Dated: October 30, 2007.
William J. Goggin,
Executive Director, Advisory Committee on Student Financial Assistance.

[FR Doc. E7-21665 Filed 11-2-07; 8:45 am]

BILLING CODE 4000-01-P